DEPARTMENT OF STATE

[Public Notice 6655]

30-Day Notice of Proposed Information Collection: DS-5506, Local American Citizen Skills/Resources Survey, New—OMB No. 1405-XXXX

ACTION: Notice of request for public comment and submission to OMB of proposed collection of information.

SUMMARY: The Department of State has submitted the following information collection request to the Office of Management and Budget (OMB) for approval in accordance with the Paperwork Reduction Act of 1995.

• Title of Information Collection: Local American Citizen Skills/Resources Survey.

• OMB Control Number: New—OMB No. 1405-XXXX.

• Type of Request: New Collection.

• Originating Office: Bureau of Consular Affairs, Overseas Citizens Services (CA/OCS).

• Form Number: DS-5506.

• Respondents: United States Citizens.

• Estimated Number of Respondents: 2,000.

• Estimated Number of Responses: 2,000.

• Average Hours per Response: 15 minutes.

• Total Estimated Burden: 500 hours.

• Frequency: On Occasion.

• Obligation to Respond: Voluntary.

DATE(S): Submit comments to the Office of Management and Budget (OMB) for up to 30 days from June 8, 2009.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-5806.

FOR FURTHER INFORMATION CONTACT: You may obtain copies of the proposed information collection and supporting documents from Derek A. Rivers, Bureau of Consular Affairs, Overseas Citizens Services (CA/OCS/PRI), U.S. Department of State, SA-29, 4th Floor, Washington, DC 20520, who may be reached on (202) 736-9082 or ASKPRI@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond.

Abstract of proposed collection: The Local American Citizen Skills/Resources Survey is a systematic method of gathering information about skills and resources from U.S. citizens that will assist in improving the well-being of other U.S. citizens affected or potentially affected by a crisis.

Methodology: The information is collected in person, by fax, or via mail. The Bureau of Consular Affairs is currently exploring options to make this information collection available electronically.

Dated: May 5, 2009.
Mary Ellen Hickey,
Managing Director, Bureau of Consular Affairs, Department of State.

[FR Doc. E9-13334 Filed 6-5-09; 8:45 am]

BILLING CODE 4710-06-P